FEDERAL COMMUNICATIONS COMMISSION

47 CFR Part 73

[DA 05-753; MB Docket No. 05-147; RM-10823

Radio Broadcasting Services; Fort Lauderdale and Lake Park, Florida

AGENCY: Federal Communications Commission.

ACTION: Proposed rule.

SUMMARY: This document requests comments on a petition for rulemaking filed by by Charles Crawford, requesting the allotment of Channel 262A at Lake Park, Florida, as its first local aural broadcast service. This proposal requires the reclassification of Station WHYI-FM, Channel 264C, Fort Lauderdale, Florida to specify operation on Channel 264C0. See Second Report and Order in MM Docket 98-93, 1998 Biennial Regulatory Review—Streamlining of Radio Technical Rules in Parts 73 and 74 of the Commission's Rules, 65 FR 79773 (2000). An Order to Show Cause was issued to Clear Channel Broadcasting Licenses, Inc., licensee of Station WHYI-FM to which no response was received. Channel 262A can be allotted to Lake Park in compliance with the Commission's minimum distance separation requirements with a site restriction of site 4.7 kilometers (2.9 miles) south of the community at coordinates 26-45-29 NL and 80-03-28 WL.

DATES: Comments must be filed on or before May 10, 2005, and reply comments on or before May 25, 2005. Any counterproposal filed in this proceeding need only protect Station WHYI-FM, Fort Lauderdale, as a Class C0 allotment.

ADDRESSES: Federal Communications Commission, 445 Twelfth Street, SW., Washington, DC 20554. In addition to filing comments with the FCC, interested parties should serve the petitioner as follows: Charles Crawford, 4553 Bordeaux Avenue, Dallas, Texas 75205.

FOR FURTHER INFORMATION CONTACT: Rolanda F. Smith, Media Bureau, (202) 418-2180.

SUPPLEMENTARY INFORMATION: This is a synopsis of the Commission's Notice of Proposed Rule Making, MB Docket No. 05-147, adopted March 21, 2005, and released March 23, 2005. The full text of this Commission decision is available for inspection and copying during normal business hours in the FCC's Reference Information Center at Portals II, CY-A257, 445 Twelfth Street, SW., Washington, DC. The complete text of this decision may also be purchased from the Commission's duplicating contractor, Best Copy and Printing, Inc., 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Florida is amended by removing Channel 264C and by adding Channel 264C0 at Fort Lauderdale and by adding Lake Park, Channel 262A.

Federal Communications Commission.
John A. Karousos,
Assistant Chief, Audio Division, Media Bureau.

[FR Doc. 05-7050 Filed 4-12-05; 8:45 am]

BILLING CODE 6712-01-P